SMALL BUSINESS ADMINISTRATION

[Disaster Declaration #12576 and #12577]

Missouri Disaster Number MO-00048

AGENCY: U.S. Small Business Administration.

ACTION: Amendment 2.

SUMMARY: This is an amendment of the Presidential declaration of a major disaster for the State of Missouri (FEMA-1980-DR), dated 05/09/2011.

Incident: Severe storms, tornadoes, and flooding.

Incident Period: 04/19/2011 and continuing.

Effective Date: 05/23/2011.

Physical Loan Application Deadline Date: 07/08/2011.

EIDL Loan Application Deadline Date: 02/09/2012.

ADDRESSES: Submit completed loan applications to: U.S. Small Business Administration, Processing And Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of Missouri, dated 05/09/2011 is hereby amended to include the following areas as adversely affected by the disaster:

Primary Counties (Physical Damage and Economic Injury Loans): Jasper, Newton.

Contiguous Counties (Economic Injury Loans Only):

Kansas: Cherokee, Crawford.

Missouri: Barton, Dade.

All other information in the original declaration remains unchanged.

(Catalog of Federal Domestic Assistance Numbers 59002 and 59008)

James E. Rivera,
Associate Administrator for Disaster Assistance.

[FR Doc. 2011-13344 Filed 5-27-11; 8:45 am]

BILLING CODE 8025-01-P